INTERNATIONAL TRADE COMMISSION

[Investigation No. TA-201-73]

Steel

AGENCY: United States International Trade Commission.

ACTION: Scheduling of public hearings for the injury phase of the investigation.

SUMMARY: In accordance with the Commission's notice of institution of investigation No. TA-201-73, Steel (66 FR 35267, July 3, 2001), this notice sets forth the schedule for the public hearings to be conducted during the injury phase of the Commission's investigation.

For further information concerning the conduct of this investigation, hearing procedures, and rules of general application, consult the Commission's Rules of Practice and Procedure, part 201, subparts A through E (19 CFR part 201), and part 206, subparts A and B (19 CFR part 206).

EFFECTIVE DATE: August 29, 2001.

FOR FURTHER INFORMATION CONTACT: Vera Libeau (202-205-3176), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. Media should contact Peg O'Laughlin (202-205-1819), Office of External Relations. General information concerning the Commission may also be obtained by accessing its internet server(http://www.usitc.gov).The public record for this investigation may be viewed on the Commission's electronic docket (EDIS-ON-LINE) at http://dockets.usitc.gov/eol/public.

SUPPLEMENTARY INFORMATION:

Background

Following receipt of a request from the United States Trade Representative on June 22, 2001, the Commission instituted investigation No. TA-201-73 under section 202 of the Trade Act of 1974 (19 U.S.C. 2252) to determine whether certain steel products ¹ are being imported into the United States in such increased quantities as to be a substantial cause of serious injury, or the threat thereof, to the domestic industry producing an article like or directly competitive with the imported article.²

¹ The June 22, 2001, request letter from the United States Trade Representative and the accompanying annexes listing the covered products by HTS categories are on the Commission's website(http://www.usitc.gov).

² On July 26, 2001, the Commission received a resolution from the Committee on Finance of the United States Senate for an investigation of steel products with the same scope. Pursuant to section 603 of the Trade Act, the Commission consolidated the investigation requested by the Committee with the ongoing investigation.

Hearings on Injury

The Commission has announced the following schedule of public hearings in connection with the injury phase of this investigation. The tabulation below shows the dates of the hearings, the starting times, the product(s) or issues to be addressed, the time allotted to the parties for their presentations, and the filing deadlines for the list of witnesses to appear at the hearings. Commission rule 201.13(d) will be strictly enforced.

Date of hearing | Starting time | Product(s)/issues to be addressed and time allocations | Deadline to file list of witnesses
Monday, September 17, 2001 | 8:45 a.m. | —Congressional and Embassy presentations as requested —Opening arguments—20 minutes: Parties in support of relief; 20 minutes: Parties in opposition to relief | September 10.
| To be completed by 5 p.m. | —General arguments and issues common to product categories—90 minutes: Parties in support of relief;90 minutes: Parties in opposition to relief

Date of hearing | Starting time | Product(s)/issues to be addressed and time allocations | Deadline to file list of witnesses
Wednesday September 19, 2001 | 9:15 a.m | —Congressional and Embassy presentations as requested | September 12.
|  | —Carbon and alloy flat—slabs
|  | —Carbon and alloy long—Ingots, billets, & blooms 45 minutes: Parties in support of relief 45 minutes: Parties in opposition to relief
|  | —Carbon and alloy flat—Plate
|  | —Carbon and alloy flat—Hot-rolled sheet, strip, and coils 45 minutes: Parties in support of relief
Thursday September 20, 2001 | 9:15 a.m. | —Congressional and Embassy presentations as requested | September 12.
|  | —Carbon and alloy flat—Plate, continued
|  | —Carbon and alloy flat—Hot-rolled sheet, strip, and coils, continued 45 minutes: Parties in opposition to relief
|  | —Carbon and alloy flat—Cold-rolled sheet, strip, other than GOES
|  | —Carbon and alloy flat—GOES
|  | —Carbon and alloy flat—Corrosion-resistant and other coated sheet and strip
|  | —Carbon and alloy flat-Tin mill products 90 minutes: Parties in support of relief 90 minutes: Parties in opposition to relief
Monday September 24, 2001 | 9:15 a.m. | —Congressional and Embassy presentations as requested | September 17.
|  | —Carbon and alloy long—Hot-rolled bar and light shapes
|  | —Carbon and alloy long—Cold-finished bar
|  | —Carbon and alloy long—Rebar
|  | —Carbon and alloy long—Rails and railway products
|  | —Carbon and alloy long—Heavy structural shapes and sheet piling
|  | —Carbon and alloy long—Fabricated structural units 90 minutes: Parties in support of relief 90 minutes: Parties in opposition to relief
|  | —Carbon and alloy long—Wire
|  | —Carbon and alloy long—Strand, rope, cable, and cordage
|  | —Carbon and alloy long—Nails, staples, and woven cloth
|  | —Stainless and tool—Wire
|  | —Stainless and tool—Cloth
|  | —Stainless and tool—Rope 90 minutes: Parties in support of relief
Tuesday September 25, 2001 | 9:15 a.m. | —Congressional and Embassy presentations as requested | September 17.
|  | —Carbon and alloy long—Wire, continued
|  | —Carbon and alloy long—Strand, rope, cable, and cordage, continued
|  | —Carbon and alloy long—Nails, staples, and woven cloth, continued
|  | —Stainless and tool—Wire, continued
|  | —Stainless and tool—Cloth, continued
|  | —Stainless and tool—Rope, continued 90 minutes: Parties in opposition to relief
|  | —Stainless and tool—Slabs/ingots
|  | —Stainless and tool—Cut-to-length plate
|  | —Stainless and tool—Bar and light shapes
|  | —Stainless and tool—Rod
|  | —Stainless and tool—Tool steel 90 minutes: Parties in support of relief 90 minutes: Parties in opposition to relief
Friday September 28, 2001 | 9:15a.m. | —Congressional and Embassy presentations as requested | September 21.
|  | —Stainless and tool—Seamless tubular products
|  | —Stainless and tool—Welded tubular products
|  | —Stainless and tool—Flanges and fittings 75 minutes: Parties in support of relief 75 minutes: Parties in opposition to relief
Monday October 1, 2001 | 9:15 a.m. | —Congressional and Embassy presentations as requested | September 24.
|  | —Carbon and alloy tubular—Seamless
|  | —Carbon and alloy tubular—Seamless OCTG
|  | —Carbon and alloy tubular—Welded
|  | —Carbon and alloy tubular—Welded OCTG
|  | —Carbon and alloy tubular—Flanges, fittings, and tool joints 90 minutes: Parties in support of relief 90 minutes: Parties in opposition to relief

Oral testimony and written materials to be submitted at the hearings are governed by sections 201.6(b)(2) and 201.13(f) of the Commission's rules. Parties must submit any request to present a portion of their hearing testimony in camera no later than 7 days prior to the dates of the hearings.

Written Submissions

Each party is encouraged to submit a prehearing brief to the Commission. Regardless of the product, the deadline for filing all prehearing briefs on injury is September 10, 2001. Parties may also file posthearing briefs. The deadlines for filing posthearing briefs on injury are as follows: September 27, 2001, for briefs regarding carbon and alloy flat products; October 2, 2001, for briefs presenting a summary of general arguments and common issues presented; October 2, 2001, for briefs regarding carbon and alloy long products; October 5, 2001, for briefs regarding stainless and tool steel products; and October 9, 2001, for briefs regarding carbon and alloy tubular products. In addition, any person who has not entered an appearance as a party to the investigation may submit a written statement of information pertinent to the consideration of injury by October 9, 2001. All written submissions must conform with the provisions of section 201.8 of the Commission's rules; any submissions that contain confidential business information must also conform with the requirements of section 201.6 of the Commission's rules. The Commission's rules do not authorize filing of submissions with the Secretary by facsimile or electronic means.

In accordance with section 201.16(c) of the Commission's rules, each document filed by a party to the investigation must be served on all other parties to the investigation (as identified by the service list), and a certificate of service must be timely filed. The Secretary will not accept a document for filing without a certificate of service.

Authority: This investigation is being conducted under the authority of section 202 of the Trade Act of 1974; this notice is published pursuant to section 206.3 of the Commission's rules.

Issued: August 29, 2001.
By order of the Commission.
Donna R. Koehnke,
Secretary.

[FR Doc. 01-22197 Filed 9-4-01; 8:45 am]

BILLING CODE 7020-02-P